FEDERAL COMMUNICATIONS COMMISSION

47 CFR Part 15

[GN Docket No. 12-268; FCC 15-140]

Expanding the Economic and Innovation Opportunities of Spectrum Through Incentive Auctions

AGENCY: Federal Communications Commission.

ACTION: Final rule; announcement of effective date.

SUMMARY: The Federal Communications Commission (Commission) is announcing that three final rules that appeared in the Federal Register as part of the Commission's rulemaking Expanding the Economic and Innovation Opportunities of Spectrum do not need information collection approval from the Office of Management and Budget (OMB) and are effective immediately. This document is consistent with a Report and Order in which the Commission stated that it would publish a document in the Federal Register announcing OMB approval and the effective date of these rules.

DATES: 47 CFR 15.713(b)(2)(iv), 15.713(j)(10) introductory text and 15.715(n) published at 81 FR 4969, January 29, 2016, are effective on January 24, 2018.

FOR FURTHER INFORMATION CONTACT: Cathy Williams at (202) 418-2918, or via email at Cathy.Williams@fcc.gov.

SUPPLEMENTARY INFORMATION: The Report and Order, GN Docket No. 12-268, FCC 15-140, published at 81 FR 4969, January 29, 2016, stated that modifications to section 15.713(b)(2)(iv), 15.713(j)(10) introductory text and section 15.715(n) would not become effective until after the Federal Register publication of the date that OMB approved the resulting modification of the information collections under the Paperwork Reduction Act (PRA) and the effective date of such modifications. Because subsequent review and consultation with OMB has revealed that there is no existing information collection that will be modified by these rules, OMB review is not necessary. Thus, these rules may become effective immediately.

Federal Communications Commission.
Marlene H. Dortch,
Secretary.

[FR Doc. 2018-01213 Filed 1-23-18; 8:45 am]

BILLING CODE 6712-01-P